DEPARTMENT OF EDUCATION

Notice of Public Posting Requirement of Grant Information for Higher Education Emergency Relief Fund (HEERF) Grantees

AGENCY: Office of Postsecondary Education, Department of Education.

ACTION: Notice.

SUMMARY: The U.S. Department of Education (Department) publishes an Information for Financial Aid Professionals (IFAP) Electronic Announcement (EA) that describes the public reporting requirements for Emergency Financial Aid Grants to Students under the Coronavirus Response and Relief Supplemental Appropriations Act, 2021 (CRRSAA) and American Rescue Plan Act, 2021 (ARP) section (a)(1) and (a)(4) programs.

FOR FURTHER INFORMATION CONTACT: Karen Epps, U.S. Department of Education, Office of Postsecondary Education, 400 Maryland Ave. SW, Room 250-64, Washington, DC 20202. Telephone: (202) 377-3711; Email: HEERF@ed.gov.

If you use a telecommunications device for the deaf (TDD) or a text telephone (TTY), call the Federal Relay Service, toll free, at 1-800-877-8339.

SUPPLEMENTARY INFORMATION: Section 314(e) of CRRSAA (Pub. L. 116-260) directs institutions receiving funds under section 314 to submit (in a time and manner required by the Secretary) a report to the Secretary describing the use of funds distributed from the HEERF. While ARP does not explicitly identify procedures by which institutions submit a report to the Secretary, the Department exercises this reporting authority under 2 CFR 200.328 and 2 CFR 200.329. The reporting requirements are intended to ensure that the statutory requirements described below are met for (1) the CRRSAA and ARP (a)(1) Student Grant Programs, and (2) CRRSAA and ARP (a)(4) Student Grant Programs.

1. CRRSAA and ARP (a)(1) Student Grant Programs

Section 314(d)(5) of CRRSAA requires that an institution receiving funding under section 314(a)(1) provide the same amount in financial aid grants to students from the new CRRSAA funds that it was required or which it would have been required to provide under its original Coronavirus Aid, Relief, and Economic Security Act (CARES Act) Student Aid Portion award. The ARP, with some changes, is a continuation of the CRRSAA programs. Under the ARP (a)(1) program, as authorized under section 2003 of the ARP, the amount each institution must use for financial aid grants to students is determined by calculating the sum of 50 percent of the amount each institution receives under the formula factors in CRRSAA section 314(a)(1)(A)-(D); and 100 percent of the amount received under the formula factors in CRRSAA section 314(a)(1)(E)-(F). Student award amounts for both the CRRSAA and ARP (a)(1) programs are identified for each institution in their respective allocation table.

Under the CRRSAA and ARP (a)(1) programs, student portion funds must be used to provide financial aid grants to students (including students exclusively enrolled in distance education) which may be used for any component of the student's cost of attendance or for emergency costs that arise due to coronavirus, such as tuition, food, housing, health care (including mental health care), or child care. In making financial aid grants to students, an institution of higher education must prioritize grants to students with exceptional need, such as students who receive Pell Grants.

2. CRRSAA and ARP (a)(4) Student Grant Programs

Under both the CRRSAA and ARP (a)(4) programs, allocations for eligible proprietary institutions of higher education are calculated on the basis of the formula specified under section 314(a)(1)(A)-(F) of CRRSAA. For ARP, the total amount of funding allocated to the (a)(4) funding stream is determined under ARP section 2003(4).

Under CRRSAA section 314(d)(7), which continues to apply to ARP (a)(4) funds, awards from the Proprietary Institution Grant Funds for Students Program may only be used to provide financial aid grants to students (including students exclusively enrolled in distance education), which may be used for any component of the student's cost of attendance or for emergency costs that arise due to coronavirus, such as tuition, food, housing, health care (including mental health care), or child care. In making such financial aid grants to students, grantees must prioritize grants to students with exceptional need, such as students who receive Pell Grants.

The Certification and Agreements for the CRRSAA and ARP (a)(1) and (a)(4) funds provide that each institution applying for HEERF funds must promptly and timely provide a detailed accounting of the use and expenditure of the funds in such manner and with such frequency as the Secretary may require. Each HEERF participating institution must post the information listed below on the institution's primary website, as an initial report under the CRRSAA and ARP (a)(1) and (a)(4) programs. This report is associated with the approved information collection under OMB control number 1801-0005.

The Department encourages institutions to report as soon as possible, but no later than 30 days after the publication of this notice or 30 days after the date the Department first obligated funds under HEERF I, II, or III to the institution for Emergency Financial Aid Grants to Students, whichever comes later.

The following information must appear in a format and location that is easily accessible to the public. This information must also be updated no later than 10 days after the end of each calendar quarter (September 30, and December 31, March 31, June 30) thereafter, unless the Secretary specifies an alternative method of reporting:

(1) An acknowledgement that the institution signed and returned to the Department the Certification and Agreement and the assurance that the institution has used the applicable amount of funds designated under the CRRSAA and ARP (a)(1) and (a)(4) programs to provide Emergency Financial Aid Grants to Students.

(2) The total amount of funds that the institution will receive or has received from the Department pursuant to the institution's Certification and Agreement for Emergency Financial Aid Grants to Students under the CRRSAA and ARP (a)(1) and (a)(4) programs.

(3) The total amount of Emergency Financial Aid Grants distributed to students under the CRRSAA and ARP (a)(1) and (a)(4) programs as of the date of submission (i.e., as of the initial report and every calendar quarter thereafter).

(4) The estimated total number of students at the institution that are eligible to receive Emergency Financial Aid Grants to Students under the CRRSAA and ARP (a)(1) and (a)(4) programs.

(5) The total number of students who have received an Emergency Financial Aid Grant to students under the CRRSAA and ARP (a)(1) and (a)(4) programs.

(6) The method(s) used by the institution to determine which students receive Emergency Financial Aid Grants and how much they would receive under the CRRSAA and ARP (a)(1) and (a)(4) programs.

(7) Any instructions, directions, or guidance provided by the institution to students concerning the Emergency Financial Aid Grants.

Note: For the initial report and each report thereafter, institutions should use data suppression and other methodologies to protect the personally identifiable information from student education records consistent with the Family Educational Rights and Privacy Act (20 U.S.C. 1232g; 34 CFR part 99). This means that if the total number of eligible students or the total number of students who received Emergency Financial Aid Grants is less than 10, but not 0, then the institution must display the total number of students eligible and/or the total number of students who received Emergency Financial Aid Grants as less than 10 (“<10”) on the publicly available websites controlled by the institution.

Institutions that the Department determines have not met the reporting requirement as described in this notice may, consistent with the Department's authority to monitor grantee compliance, be subject to appropriate enforcement actions, up to and including being determined to be ineligible for certain other HEERF program funding. For other subsequent reports for this program and other related HEERF programs, the Department will notify participating institutions of the Department's preferred reporting method. The Department may choose to collect additional information from institutions in accordance with the CRRSAA and ARP (a)(1) and (a)(4) program Certification and Agreements.

For more information on the HEERF, please visit the Department's Higher Education Emergency Relief Fund page at: www2.ed.gov/about/offices/list/ope/arp.html.

Accessible Format: On request to the person listed under FOR FURTHER INFORMATION CONTACT, individuals with disabilities can obtain this document in an accessible format. The Department will provide the requestor with an accessible format that may include Rich Text Format (RTF) or text format (txt), a thumb drive, an MP3 file, braille, large print, audiotape, or compact disc, or another accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Section 314 of the CRRSAA and 2003 of ARP.

Paperwork Burden Statement

According to the Paperwork Reduction Act of 1995 (PRA), no persons are required to respond to a collection of information unless such collection displays a valid OMB control number. The valid OMB control number for this information collection is 1801-0005. Public reporting burden for this collection of information is estimated to average 30 minutes per response, including time for reviewing instructions, searching existing data sources, gathering and maintaining the data needed, and completing and reviewing the collection of information. Under the PRA, participants are required to respond to this collection to obtain or retain benefit. If you have any comments concerning the accuracy of the time estimate or suggestions for improving this individual collection, or if you have comments or concerns regarding the status of your individual form, application, or survey, please contact: Karen Epps, U.S. Department of Education, 400 Maryland Avenue SW, Washington, DC 20202.

Michelle Asha Cooper,
Acting Assistant Secretary for the Office of Postsecondary Education.

[FR Doc. 2021-10196 Filed 5-12-21; 8:45 am]

BILLING CODE 4000-01-P